INTERNATIONAL TRADE COMMISSION

[Investigation No. 337-TA-1424]

Certain Flash-Spun Nonwoven Materials and Products Containing Same; Notice of Institution of Investigation

AGENCY: U.S. International Trade Commission

ACTION: Notice.

SUMMARY: Notice is hereby given that a complaint was filed with the U.S. International Trade Commission on October 9, 2024, under section 337 of the Tariff Act of 1930, as amended, on behalf of DuPont de Nemours, Inc. of Wilmington, Delaware; DuPont Safety & Construction, Inc. of Wilmington, Delaware; and DuPont Specialty Products USA, LLC of Wilmington, Delaware. Supplements to the complaint were filed on October 29, 2024. The complaint, as supplemented, alleges violations of section 337 based upon the importation into the United States, the sale for importation, and the sale within the United States after importation of certain flash-spun nonwoven materials and products containing same by reason of misappropriation of trade secrets and wrongful use and exploitation of stolen confidential and proprietary information, the threat or effect of which is to destroy or substantially injure an industry in the United States. The complaint further alleges violations of section 337 based upon the importation into the United States, the sale for importation, and the sale within the United States after importation of certain flash-spun nonwoven materials and products containing same by reason of the infringement of U.S. Trademark Registration No. 817,194 (“the '194 mark”), U.S. Trademark Registration No. 818,688 (“the '688 mark”), U.S. Trademark Registration No. 818,737 (“the '737 mark”), and U.S. Trademark Registration No. 7,370,316 (“the '316 mark”). The complaint also alleges that an industry in the United States exists as required by the applicable Federal Statute. The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on November 15, 2024, ordered that—

(1) Pursuant to subsection (b) of section 337 of the Tariff Act of 1930, as amended, an investigation be instituted to determine:

(a) whether there is a violation of subsection (a)(1)(A) of section 337 in the importation into the United States, the sale for importation, or the sale within the United States after importation of certain products identified in paragraph (2) by reason of misappropriation of trade secrets and wrongful use and exploitation of stolen confidential and proprietary information, the threat or effect of which is to destroy or substantially injure an industry in the United States; and

(b) whether there is a violation of subsection (a)(1)(C) of section 337 in the importation into the United States, the sale for importation, or the sale within the United States after importation of certain products identified in paragraph (2) by reason of infringement of the '194 mark, the '688 mark, the '737 mark, and '316 mark, and whether an industry in the United States exists as required by subsection (a)(2) of section 337;

(2) Pursuant to section 210.10(b)(1) of the Commission's Rules of Practice and Procedure, 19 CFR 210.10(b)(1), the plain language description of the accused products or category of accused products, which defines the scope of the investigation, is “flash-spun nonwoven materials sold in both paper-like hard structure or cloth-like soft structure”;

(3) For the purpose of the investigation so instituted, the following are hereby named as parties upon which this notice of investigation shall be served:

(a) The complainant are:

DuPont de Nemours, Inc., 974 Centre Road, Chestnut Run Plaza, Wilmington, DE 19805

DuPont Safety & Construction, Inc., 974 Centre Road, Wilmington, Delaware 19805

DuPont Specialty Products USA, LLC, 974 Centre Road, Chestnut Run Plaza, Wilmington, DE 19805

(b) The respondents are the following entities alleged to be in violation of section 337, and are the parties upon which the complaint is to be served:

Xiamen Dangs New-Materials Co., Ltd., AKA Dawnsens New Materials Co., Ltd., Dangsheng Industrial Park, No. 227-1 Fulian West 2nd Road, Dongfu Street, Haicang District, Xiamen, Fujian, 361000 China

Beijing Dangsheng Technology Co., Ltd., B0204, Floor 2, Building 12, 16, No. 37 Courtyard, Chaoqian Road, Science & Technology Park, Changping District, Beijing, Beijing, 102200 China

Xiamen Dangsheng Technology Co., Ltd., Room 489, No. 1, Shishan Road, Dongfu Sub-District, Haicang District, Xiamen, Fujian, 361000 China

Kingwills New Material Technology Co., Ltd., Room 514, No. 42, Guangzhou Road, Development Zone, Nantong, Jiangsu, 226300 China

Zhejiang Qingyun New Material Co., Ltd., South Side of Yuan Factory, (Building No. 3, Pinghu Fei Da Garments Co., Ltd.), Jvfu Village, Huanggu Town, Dushangang Town, Pinghu, Jiaxing, Zhejiang, 314000 China

Jiangsu Qingyun New Materials Co., Ltd., AKA Jiangsu Kingwills New Materials Co., Ltd., No. 166 Jianghai Road, Nantong Economic & Technological Development Area, Chongchuan District, Nantong, Jiangsu, 226000 China

Shanghai Qingyun New Material Technology Co., Ltd., Room 452, Building 18, No. 235, Sanlin Road, Pudong New District, Shanghai, Shanghai, 200125 China

Kingwills International Ltd., Unit 2 of Lg 1, Mirror Tower, 61 Mody Rd., Tsim Sha Tsui, Kowloon, Hong Kong, 20002 China

Harbourpoint Innovations Inc., 434 Fayetteville Street, Suite 2330, Raleigh, NC 27601

Impak Corporation, 13700 S Broadway, Los Angeles, California 90061

Shenzhen Zhengming Science and Technology Co., Ltd., 1001, Building 3, Taidong Science Park, No. 19, Longxing Road, Dayawan West District, Huizhou, Guangdong, 516081 China

Weifang Konzer Safety Protective Equipment Co., Ltd., Intersection of Wei'an Road and Nanyuan Road, Xingan Sub-District, Anqiu, Shandong, China

Jiangsu Tubo New Material Co., Ltd., No. 335, Xiangxieli Boulevard, Lvdi International, Jiayuan, Huaqiao Town, Kunshan, Jiangsu, 215300 China

Emedia Group. Inc., 615 Worley Rd., Greenville, SC 29609

endur-tec, LLC, 900 Hiawatha Drive, Anderson, SC 29621

Hangzhou Several Sets of Electronic Commerce Co., Ltd., Room 562, Xixi Golden Block, Wuchang Street, Yuhang, Hangzhou, 311121 China

Hangzhou Qiao Shell Digital Technology Co., Ltd., Room 301, Floor 3, Building 3, No. 31 Xianxing Road, Xianlin Street, Yuhang, Hangzhou, 311121 China

Zhenping County Weihe Commerce and Trade Co., Ltd., East No. 180, 100 Meters South of the Intersection of North Station Road and Provincial Highway 331, Jiasong Town, Zhenping, Nanyang, 474272 China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 15, 2024.
Sharon Bellamy,
Supervisory Hearings and Information Officer.

[FR Doc. 2024-27250 Filed 11-20-24; 8:45 am]

BILLING CODE 7020-02-P